DEPARTMENT OF AGRICULTURE

Food and Nutrition Service

Agency Information Collection Activities: Longitudinal Study of SNAP Households AKA The Study of Household Insights and Nutritional Experiences (SHINE)

AGENCY: Food and Nutrition Service (FNS), USDA.

ACTION: Notice.

SUMMARY: In accordance with the Paperwork Reduction Act of 1995, this notice invites the general public and other public agencies to comment on this proposed information collection. This new collection will provide the U.S. Department of Agriculture, Food and Nutrition Service (FNS) key information from a large representative sample of SNAP households to enable FNS to examine how SNAP households change through time.

DATES: Written comments must be received on or before December 17, 2024.

ADDRESSES: Comments may be sent to: Michael Burke, Food and Nutrition Service, U.S. Department of Agriculture, 1320 Braddock Place, 5th Floor, Alexandria, VA 22314. Comments may also be submitted via email to michael.burke@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Michael Burke at 703-305-4369.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Longitudinal Study of SNAP Households AKA The Study of Household Insights and Nutritional Experiences (SHINE).

Form Number: N/A.

OMB Number: 0584-NEW.

Expiration Date: Not Yet Determined.

Type of Request: New collection.

Abstract: This is a new information collection request. The Supplemental Nutrition Assistance Program (SNAP) provides monthly benefits to low-income households to reduce food insecurity and improve health and well-being. SNAP policies and benefit calculations change over time in response to economic factors, such as inflation, high unemployment, and changes in Federal budget priorities. To understand SNAP's effectiveness at helping participants maintain their food-purchasing power following such changes, the Food and Nutrition Service (FNS) requires accurate and timely data about SNAP households. The sample must be large enough to produce reliable conclusions and detailed enough to examine policy changes affecting only subpopulations of SNAP participants. The Food and Nutrition Act of 2008, as amended through Public Law 116-94, enacted December 20, 2019, provides the legislative authority for FNS to administer SNAP. Section 17 of the Act authorizes FNS to conduct research to help improve the administration and effectiveness of SNAP.

The proposed study—Longitudinal Study of SNAP Households AKA The Study of Household Insights and Nutritional Experiences (SHINE)—will conduct a longitudinal survey among a nationally representative sample of SNAP households. The study will also field a dietary recall assessment interview among a subset of households. These data will enable FNS to conduct detailed analyses of SNAP participants' characteristics over time and observe how they respond to Federal, State, and local policy and economic changes. With these data, FNS will be able to examine how participating SNAP households fared before and after potential economic shocks or policy changes, reducing reliance on comparisons of changes for broad groups of participants.

SHINE overcomes the limitations of the data FNS currently uses to examine SNAP policies and effects on households. FNS' currently available data sources typically lack the detail required for in-depth study, do not include a representative sample, or do not include the same households over time. This study addresses these issues by collecting key information for a large representative sample of SNAP households through time, drawn from State SNAP administrative data. Specifically, the study's objective is to produce:

1. A longitudinal data collection framework that completely and accurately documents the approach to ensuring an enduring and robust annual data collection

2. Descriptive statistics on a wide range of sociodemographic and economic characteristics of households

3. Descriptive statistics on other key household characteristics

4. Cross-tabulations between key sociodemographic, economic, and other key characteristics of households, and identification of statistically significant differences

5. Descriptive statistics on the dietary quality of a randomly selected adult household member in a subsample of households

6. Cross-tabulations between key sociodemographic and economic characteristics and markers of dietary quality

7. Public and restricted-use data sets and documentation that allow FNS to reproduce analysis results and public-use data sets that will promote use of the data by the research community

At the first wave of data collection, the 35-minute longitudinal survey will be conducted among a representative sample of 9,000 SNAP participants. The survey will employ a multistage sampling approach, first identifying States, and then counties within those States, from which to draw the sample. Within selected counties, the study will use States' SNAP data to draw a random sample of households, producing a nationally representative sample for key subgroups (households with children, households with a person who is age 60 or older, and households without an older adult but with a person with a disability), as well as the full SNAP population. During the first wave, FNS will also field a dietary intake instrument among approximately 25 percent of households that complete the survey.

Affected Public: Respondent groups identified include: (a) Individuals/Households (county residents in the selected counties); (b) State, Local and Tribal Government (State/County SNAP agencies).

Estimated Number of Respondents: The total estimated number of respondents is 19,489. The number of respondents includes: 19,464 SNAP participants (47% of whom will complete interviews) and 25 State SNAP agency directors or other State agency staff. The total estimated number of non-respondents is 4,871 and includes 4,866 SNAP participants (who will be contacted to complete surveys) and 5 State SNAP agency or other State agency staff.

Estimated Number of Responses per Respondent: Across all respondents, the average number of responses is 11.87. Respondents include SNAP participants, members of SNAP households, and State SNAP agency directors or other State agency staff.

Sampled SNAP participants will be asked to participate in a household survey. SNAP participants will receive several notifications about the survey, including an invitation letter, emails or text messages, and reminder letters. Participants who choose to complete the survey will complete a 35-minute web or phone survey. After completing the survey, a subset of cases will receive an invitation to participate in a dietary recall interview. A random member of the household will be selected and invited to participate in this second interview. Dietary recall interview respondents may receive a mailed invitation and text and email reminder notifications.

State SNAP agency staff will provide administrative data to the study team quarterly.

Estimated Total Annual Responses: 317,923 (231,423 respondents and 86,500 nonrespondents).

Estimated Time per Response: The estimated time of response varies from a few minutes to over an hour, depending on respondent group, but averages 0.051 hours (or about 3 minutes) for all respondents as shown in the table below.

Estimated Total Annual Burden on Respondents: 1,281,441 minutes (21,357.35 hours). See the table below for estimated total annual burden for each type of respondent.

Tameka Owens,
Acting Administrator and Assistant Administrator, Food and Nutrition Service.

[FR Doc. 2024-24160 Filed 10-17-24; 8:45 am]

BILLING CODE 3410-30-P